DEPARTMENT OF TRANSPORTATION

Federal Aviation Administration

14 CFR Part 39

[Docket No. FAA-2011-0723; Directorate Identifier 2010-NM-080-AD; Amendment 39-16978; AD 2012-05-06]

RIN 2120-AA64

Airworthiness Directives; Lockheed Martin Corporation/Lockheed Martin Aeronautics Company Airplanes

AGENCY: Federal Aviation Administration (FAA), DOT.

ACTION: Final rule.

SUMMARY: We are superseding an existing airworthiness directive (AD) for all Lockheed Martin Corporation/Lockheed Martin Aeronautics Company Model L-1011-385-1, L-1011-385-1-14, and L-1011-385-1-15 airplanes. That AD currently requires implementation of a Supplemental Inspection Document (SID) program of structural inspections to detect fatigue cracking, and repair if necessary, to ensure continued airworthiness of these airplanes as they approach the manufacturer's original fatigue design life goal. This new AD adds Model L-1011-385-3 airplanes to the applicability, changes certain inspection thresholds, adds three new structurally significant details (SSDs), and removes an SSD that has been addressed by a different AD. This AD was prompted by an evaluation by the manufacturer of usage and flight data that provided additional information about certain SSDs where fatigue damage is likely to occur. We are issuing this AD to prevent fatigue cracking that could compromise the structural integrity of these airplanes.

DATES: This AD is effective May 10, 2012.

The Director of the Federal Register approved the incorporation by reference of certain publications listed in the AD as of May 10, 2012.

The Director of the Federal Register approved the incorporation by reference of a certain other publication listed in this AD as of November 2, 1995 (60 FR 51713, October 3, 1995).

ADDRESSES: For service information identified in this AD, contact Lockheed Martin Corporation/Lockheed Martin Aeronautics Company, Airworthiness Office, Dept. 6A0M, Zone 0252, Column P-58, 86 S. Cobb Drive, Marietta, Georgia 30063; phone: 770-494-5444; fax 770-494-5445; email ams.portal@lmco.com; Internet http://www.lockheedmartin.com/ams/tools/TechPubs.html. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Carl Gray, Aerospace Engineer, Airframe Branch, ACE-117A, FAA, Atlanta Aircraft Certification Office (ACO), 1701 Columbia Avenue, College Park, Georgia 30337; phone: 404-474-5554; fax 404-474-5606; email: Carl.W.Gray@faa.gov.

SUPPLEMENTARY INFORMATION:

Discussion

We issued a notice of proposed rulemaking (NPRM) to amend 14 CFR part 39 to supersede AD 95-20-04 R1, Amendment 39-9454 (60 FR 63414, December 11, 1995). That AD applies to the specified products. The NPRM published in the Federal Register on August 8, 2011 (76 FR 48049). That NPRM proposed to continue to require implementation of a SID program of structural inspections to detect fatigue cracking, and repair if necessary. That NPRM also proposed to add Model L-1011-385-3 airplanes to the applicability, change certain inspection thresholds and intervals for Model L-1011-385-1, L-1011-385-1-14, and L-1011-385-1-15 airplanes, include three additional SSDs for Model L-1011-385-3 airplanes, and remove an SSD that has been addressed by a different AD action.

Comments

We gave the public the opportunity to participate in developing this AD. The following presents the comments received on the proposal NPRM (76 FR 48049, August 8, 2011) and the FAA's response to each comment.

Request To Withdraw NPRM (76 FR 48049, August 8, 2011)

An anonymous commenter requested that we stop “regulating job(s) out of this country” and leave companies alone to run their business as they see fit.

We infer the commenter is requesting that we withdraw the NPRM (76 FR 48049, August 8, 2011). We disagree. This AD addresses an identified unsafe condition. If the structural inspections required by this AD are not done, an airplane could develop fatigue cracking that could compromise the structural integrity of the airplane. We have not revised this AD in this regard.

Request To Clarify Reference

Lockheed Martin requested that we clarify the section of the document referenced in paragraph (g)(5) of the NPRM (76 FR 48049, August 8, 2011) by replacing “Appendix VI” with “Section VI., Appendix.” The commenter noted that there is no Appendix VI in the document and that there is a section VI titled Appendix.

We agree, for the reason provided by the commenter. We have revised paragraph (g)(5) of this AD accordingly.

Clarification of Repair Service Information

We have added Note 1 following paragraph (n)(1) of this AD to clarify that guidance on doing repairs in accordance with a “L-1011-385 Series Supplemental Inspection Document” specified in paragraph (n)(1) of this AD can be found in the applicable service bulletins identified in certain SSDs of the “L-1011-385 Series Supplemental Inspection Document.”

Explanation of Changes Made to This AD

We have revised certain headers throughout this AD. We have also revised the wording in paragraph (g) of this AD. These changes have not changed the intent of this AD.

Conclusion

We reviewed the relevant data, considered the comments received, and determined that air safety and the public interest require adopting the AD with the change described previously—and minor editorial changes. We have determined that these minor changes:

• Are consistent with the intent that was proposed in the NPRM (76 FR 48049, August 8, 2011) for correcting the unsafe condition; and

• Do not add any additional burden upon the public than was already proposed in the NPRM (76 FR 48049, August 8, 2011).

We also determined that these changes will not increase the economic burden on any operator or increase the scope of the AD.

Costs of Compliance

We estimate that this AD affects 26 airplanes of U.S. registry. We estimate the following costs to comply with this AD:

Estimated Costs
Action | Labor cost | Parts cost | Cost per product | Number of airplanes affected | Cost for U.S. operators
Incorporate SID into maintenance program [retained actions from AD 95-20-04 R1, Amendment 39-9454 (60 FR 63414, December 11, 1995)] | 550 work-hours × $85 per hour = $46,750 | $0 | $46,750 | 26 | $1,215,500.
Initial inspections [retained actions from AD 95-20-04 R1, Amendment 39-9454 (60 FR 63414, December 11, 1995)] | 245 work-hours × $85 per hour = $20,825 | $0 | $20,825 | 26 | $541,450.
Repetitive inspections [retained actions from AD 95-20-04 R1, Amendment 39-9454 (60 FR 63414, December 11, 1995)] | 52 work-hours × $85 per hour = $4,420 per inspection cycle | $0 | $4,420 per inspection cycle | 26 | $114,920 per inspection cycle.
Incorporate SID into maintenance program [new action for Model L-1011-385-3 airplanes] | 1 work-hour × 85 = $85 | $0 | $85 | 2 | $170.
Initial inspections [new action for Model L-1011-385-3 airplanes] | 48 work-hours × $85 per hour = $4,080 | $0 | $4,080 | 2 | $8,160.
Repetitive inspections [new action for Model L-1011-385-3 airplanes] | 44 work-hours × $85 per hour = $3,740 per inspection cycle | $0 | $3,740 per inspection cycle | 2 | $7,480 per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 95-20-04 R1, Amendment 39-9454 (60 FR 63414, December 11, 1995), and adding the following new AD:

2012-05-06 Lockheed Martin Corporation/Lockheed Martin Aeronautics Company: Amendment 39-16978; Docket No. FAA-2011-0723; Directorate Identifier 2010-NM-080-AD.

(a) Effective Date

This airworthiness directive (AD) is effective May 10, 2012.

(b) Affected ADs

This AD supersedes AD 95-20-04 R1, Amendment 39-9454 (60 FR 63414, December 11, 1995).

(c) Applicability

All Lockheed Martin Corporation/Lockheed Martin Aeronautics Company Model L-1011-385-1, L-1011-385-1-14, L-1011-385-1-15, and L-1011-385-3 airplanes, certificated in any category.

(d) Subject

Joint Aircraft System Component (JASC)/Air Transport Association (ATA) of America Code 53, Fuselage.

(e) Unsafe Condition

This AD was prompted by an evaluation by the manufacturer of usage and flight data that provided additional information about certain structurally significant details (SSDs) where fatigue damage is likely to occur. We are issuing this AD to prevent fatigue cracking that could compromise the structural integrity of these airplanes.

(f) Compliance

Comply with this AD within the compliance times specified, unless already done.

(g) Retained Maintenance Program Revision

This maintenance program revision is retained from AD 95-20-04 R1, Amendment 39-9454 (60 FR 63414, December 11, 1995): For Model L-1011-385-1, L-1011-385-1-14, and L-1011-385-1-15 airplanes: Within 12 months after November 2, 1995 (the effective date of AD 95-20-04 R1, Amendment 39-9454 (60 FR 63414, December 11, 1995)), incorporate a revision into the maintenance inspection program which provides for inspection(s) of the structurally significant details (SSD) defined in Lockheed Document Number LG92ER0060, “L-1011-385 Series Supplemental Inspection Document,” revised January 1994. Doing the revision required by paragraph (h) of this AD terminates the requirement to revise the maintenance inspections program specified in this paragraph. Doing the inspections required by paragraph (i) of this AD terminates the corresponding inspection requirements of this paragraph.

(1) The initial inspection for each SSD must be performed at the later of the times specified in paragraph (g)(1)(i) or (g)(1)(ii) of this AD.

(i) Within one repeat interval measured from November 2, 1996 (12 months after November 2, 1995).

(ii) Prior to the threshold specified in Lockheed Document Number LG92ER0060, “L-1011-385 Series Supplemental Inspection Document,” revised January 1994, for that SSD.

(2) A 10 percent deviation from the repetitive interval specified in Lockheed Document Number LG92ER0060, “L-1011-385 Series Supplemental Inspection Document,” revised January 1994, for that SSD is acceptable to allow for planning and scheduling time.

(3) If Lockheed Document Number LG92ER0060, “L-1011-385 Series Supplemental Inspection Document,” revised January 1994, specifies that inspection of any SSD be performed at every “C” check, those inspections must be performed at intervals not to exceed 5,000 hours time-in-service or 2,500 flight cycles, whichever occurs earlier.

(4) If Lockheed Document Number LG92ER0060, “L-1011-385 Series Supplemental Inspection Document,” revised January 1994, specifies either the initial inspection or the repetitive inspection intervals for any SSD in terms of flight hours or flight cycles, the inspection shall be performed prior to the earlier of the terms (whichever occurs first on the airplane: either accumulated number of flight hours, or accumulated number of flight cycles).

(5) The non-destructive inspection techniques referenced in Section VI., “Appendix,” of Lockheed Document Number LG92ER0060, “L-1011-385 Series Supplemental Inspection Document,” revised January 1994, provide acceptable methods for accomplishing the inspections required by paragraph (g) of this AD.

(h) New Requirements of This AD: Maintenance Program Revision

For all airplanes: Within 12 months after the effective date of this AD, incorporate a revision into the maintenance inspection program which provides for inspection(s) of the SSDs defined in Lockheed Document Number LG92ER0060, “L-1011-385 Series Supplemental Inspection Document,” revised April 2009. Doing this revision terminates the requirement to revise the maintenance inspection program as specified in paragraph (g) of this AD.

(i) New Requirement of This AD: Threshold and Intervals

For all airplanes: Do all applicable inspections specified in Lockheed Document Number LG92ER0060, “L-1011-385 Series Supplemental Inspection Document,” revised April 2009. Do the initial inspection or next repetitive inspection at the applicable time specified in paragraphs (i)(1) and (i)(2) of this AD, except as provided by paragraphs (j), (k), and (l) of this AD. Repeat the inspections thereafter in accordance with the intervals and actions specified in Lockheed Document Number LG92ER0060, “L-1011-385 Series Supplemental Inspection Document,” revised April 2009, except as provided by paragraphs (j), (k), and (l) of this AD. The non-destructive inspection techniques referenced in Lockheed Document Number LG92ER0060, “L-1011-385 Series Supplemental Inspection Document,” revised April 2009, provide acceptable methods for accomplishing the inspections required by this AD. Doing the inspections required by this paragraph of this AD terminates the corresponding inspection requirements of paragraph (g) of this AD.

(1) For Model L-1011-385-3 airplanes; and for Model L-1011-385-1, L-1011-385-1-14, and L-1011-385-1-15 airplanes on which the initial inspection required by paragraph (g) of this AD has not been accomplished before the effective date of this AD: Do the initial inspection at the later of the times specified in paragraphs (i)(1)(i) and (i)(1)(ii) of this AD.

(i) Within one repeat interval measured from a date 12 months after the effective date of this AD.

(ii) Before the threshold specified for that SSD in Lockheed Document Number LG92ER0060, “L-1011-385 Series Supplemental Inspection Document,” revised April 2009.

(2) For Model L-1011-385-1, L-1011-385-1-14, and L-1011-385-1-15 airplanes on which the initial inspection required by paragraph (g) of this AD has been accomplished before the effective date of this AD: Do the next repetitive inspection at the earlier of the times specified in paragraphs (i)(2)(i) and (i)(2)(ii) of this AD.

(i) Within the next repetitive inspection interval specified in Lockheed Document Number LG92ER0060, “L-1011-385 Series Supplemental Inspection Document,” revised January 1994, for that SSD.

(ii) Within one repeat interval measured from a date 12 months after the effective date of this AD; or within the next repetitive interval specified in Lockheed Document Number LG92ER0060, “L-1011-385 Series Supplemental Inspection Document,” revised April 2009, for that SSD; whichever occurs later.

(j) Exception to Intervals—10 Percent Deviation Allowed

For all airplanes: A 10 percent deviation from the repetitive interval specified in Lockheed Document Number LG92ER0060, “L-1011-385 Series Supplemental Inspection Document,” revised April 2009, for that SSD is acceptable to allow for planning and scheduling time.

(k) Exception to Intervals Specifying “C” Check

For all airplanes: Where Lockheed Document Number LG92ER0060, “L-1011-385 Series Supplemental Inspection Document,” revised April 2009, specifies that inspection of any SSD be performed at every “C” check, those inspections must be performed at intervals not to exceed 5,000 flight hours or 2,500 flight cycles, whichever occurs earlier.

(l) Exceptions to Threshold and Intervals

For all airplanes: Where Lockheed Document Number LG92ER0060, “L-1011-385 Series Supplemental Inspection Document,” revised April 2009, specifies either the initial inspection or the repetitive inspection intervals for any SSD in terms of flight hours or flight cycles, the inspection must be performed prior to the earlier of the terms (whichever occurs first on the airplane: either accumulated number of flight hours, or accumulated number of flight cycles).

(m) Exception to Inspection Procedure

For all airplanes: There should be no repair or modification work done in the inspection area before the initial inspections required by paragraph (i) of this AD; any changes in the inspection area could affect the inspection procedure.

(n) New Requirements of This AD: Repair

For all airplanes: If any cracking is found in any SSD during any inspection required by this AD, prior to further flight, repair in accordance with paragraph (n)(1), (n)(2), or (n)(3) of this AD:

(1) In accordance with the Lockheed Document Number LG92ER0060, “L-1011-385 Series Supplemental Inspection Document,” revised January 1994; or revised April 2009. After doing the revision required by paragraph (h) of this AD, repair in accordance with Lockheed Document Number LG92ER0060, “L-1011-385 Series Supplemental Inspection Document,” revised April 2009.

Note 1 to paragraph (n)(1) of this AD: Guidance on doing repairs in accordance with a “L-1011-385 Series Supplemental Inspection Document” specified in paragraph (n)(1) of this AD can be found in the applicable service bulletins identified in certain SSDs of the “L-1011-385 Series Supplemental Inspection Document” specified in paragraph (n)(1) of this AD.

(2) In accordance with Lockheed L-1011 Structural Repair Manual, Revision 80, dated December 15, 2009.

(3) In accordance with a method approved by the Manager, Atlanta Aircraft Certification Office (ACO), FAA.

(o) New Requirements of This AD: Reporting

For all airplanes: At the later of the times specified in paragraphs (o)(1) and (o)(2) of this AD, submit a report of the results (positive or negative) of the inspection(s) to Lockheed in accordance with Section V., Data Reporting System (DRS), of the applicable Lockheed Document specified in paragraph (o)(1) of this AD. Under the provisions of the Paperwork Reduction Act (44 U.S.C. 3501 et seq.), the Office of Management and Budget (OMB) has approved the information collection requirements contained in this AD and has assigned OMB Control Number 2120-0056.

(1) Within 30 days after returning the airplane to service, subsequent to accomplishment of the inspection(s) specified in Lockheed Document Number LG92ER0060, “L-1011-385 Series Supplemental Inspection Document,” revised January 1994; or Lockheed Document Number LG92ER0060, “L-1011-385 Series Supplemental Inspection Document,” revised April 2009.

(2) Within 30 days after the effective date of this AD.

(p) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(q) Alternative Methods of Compliance (AMOCs)

(1) The Manager, Atlanta ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(r) Related Information

For more information about this AD, contact Carl Gray, Aerospace Engineer, Airframe Branch, ACE-117A, FAA, Atlanta ACO, 1701 Columbia Avenue, College Park, Georgia 30337; phone: 404-474-5554; fax: 404-474-5606; email: Carl.W.Gray@faa.gov.

(s) Material Incorporated by Reference

(1) The Director of the Federal Register approved the incorporation by reference (IBR) of the following service information under 5 U.S.C. 552(a) and 1 CFR part 51 on the date specified.

(2) You must use the following service information to do the actions required by this AD, unless the AD specifies otherwise.

(3) The following service information was approved for IBR on May 10, 2012.

(i) Lockheed Document Number LG92ER0060, “L-1011-385 Series Supplemental Inspection Document,” revised April 2009.

(ii) Lockheed L-1011 Structural Repair Manual, Revision 80, dated December 15, 2009, which contains the following errors:

(A) Page 13/14 of Section 51-10-06, pages 1 through 10 of the Table of Contents for Chapter 54, and page 809/810 of Section 55-35-00 show a page date of “Date 15XX;” these pages should be dated December 15, 2009.

(B) The List of Effective Pages for Chapter 51 identifies incorrect dates for pages 3 and 4 of the Table of Contents for Chapter 51; the correct date of those pages is March 15, 1999.

(C) Page 7 of the List of Effective Pages for Chapter 53 does not list a configuration number for page 20 of Section 53-21-00; that page should be identified as configuration 2.

(D) The List of Effective Pages for Chapter 53 identifies incorrect dates for pages 3 and 5 of Section 53-14-00 (Configuration 2); the correct dates are September 15, 1995, for page 3, and March 15, 1994, for page 5.

(E) The List of Effective Pages for Chapter 53 identifies an incorrect date for page 4 of Section 53-15-00; the correct date for that page is September 15, 1981.

(F) The List of Effective Pages for Chapter 54 identifies an incorrect date for page 1 of Section 54-23-00; the correct date for that page is May 15, 1986.

(G) The List of Effective Pages for Chapter 54 identifies an incorrect date for page 4 of Section 54-32-00; the correct date for that page is March 15, 1992.

(H) The List of Effective Pages for Chapter 57 identifies an incorrect date for page 13 of Section 57-00-00; the correct date for that page is April 15, 2005.

(I) The List of Effective Pages for Chapter 57 identifies an incorrect date for pages 16 and 18 of Section 57-12-00; the correct date for those pages is March 15, 1983.

(J) The List of Effective Pages for Chapter 57 identifies an incorrect date for pages 801, 802, and 805/806 of Section 57-13-00; the correct date for those pages is December 15, 2009.

(K) The List of Effective Pages for Chapter 57 identifies an incorrect date for pages 810 through 819 of Section 57-51-00; the correct date for those pages is December 15, 2009.

(L) The List of Effective Pages for Chapter 57 identifies an incorrect date for page 4 of Section 57-52-00; the correct date for that page is December 15, 2009.

(M) Page 25, dated March 15, 1983, and page 26, dated May 15, 1986, of Section 57-12-00 were inadvertently omitted from the List of Effective Pages for Chapter 57.

(4) The following service information was approved for IBR November 2, 1995 (60 FR 51713, October 3, 1995).

(i) Lockheed Document Number LG92ER0060, “L-1011-385 Series Supplemental Inspection Document,” revised January 1994.

(5) For service information identified in this AD, contact Lockheed Martin Corporation/Lockheed Martin Aeronautics Company, L1011 Technical Support Center, Dept. 6A4M, Zone 0579, 86 South Cobb Drive, Marietta, Georgia 30063-0579; telephone 770-494-5444; fax 770-494-5445; email L1011.support@lmco.com; Internet http://www.lockheedmartin.com/ams/tools/TechPubs.html.

(6) You may review copies of the service information at the FAA, Transport Airplane Directorate, 1601 Lind Avenue SW., Renton, Washington. For information on the availability of this material at the FAA, call 425-227-1221.

(7) You may also review copies of the service information that is incorporated by reference at the National Archives and Records Administration (NARA). For information on the availability of this material at an NARA facility, call 202-741-6030, or go to http://www.archives.gov/federal_register/code_of_federal_regulations/ibr_locations.html.

Issued in Renton, WA, on March 1, 2012.
Jeffrey E. Duven,
Acting Manager, Transport Airplane Directorate, Aircraft Certification Service.

[FR Doc. 2012-8040 Filed 4-4-12; 8:45 am]

BILLING CODE 4910-13-P